OVERSEAS PRIVATE INVESTMENT CORPORATION

Submission for OMB Review; Request for Comments

AGENCY: Overseas Private Investment Corporation (OPIC).

ACTION: Request for comments.

SUMMARY: Under the provisions of the Paperwork Reduction Act (44 U.S.C. Chapter 35), agencies are required to publish a Notice in the Federal Register notifying the public that the Agency is preparing an information collection request for OMB review and approval and to request public review and comment on the submission. Comments are being solicited on the need for the information; the accuracy of the Agency's burden estimate, practical utility and clarity of the information to be collected; and on ways to minimize the reporting burden, including automated collection techniques and uses of other forms of technology. The proposed form, OMB control number 3420-0001, under review is summarized below.

DATES: Comments must be received within 30 days of publication of this Notice.

ADDRESSES: Copies of the subject form and the request for review prepared for submission to OMB may be obtained from the Agency submitting officer. Comments on the form should be submitted to the Agency Submitting Officer.

FOR FURTHER INFORMATION CONTACT: OPIC Agency Submitting Officer: Essie Bryant, Record Manager, Overseas Private Investment Corporation, 1100 New York Avenue, NW., Washington, DC 20527; (202) 336-8563.

Summary Form Under Review

Type of Request: Revised form.

Title: Request for Registration for Political Risk Investment Insurance.

Form Number: OPIC-50.

Frequency of Use: Once per investor per project.

Type of Respondents: Business or other institution (except farms); individuals.

Description of Affected Public: U.S. companies or citizens investing overseas.

Reporting Hours: ½ hour per project.

Number of Responses: 247 per year.

Federal Cost: $2,841.00.

Authority for Information Collection: Sections 231, 234(a), 239(d), and 240A of the Foreign Assistance Act of 1961, as amended.

Abstract (Needs and Uses): The OPIC Form 50 is submitted by eligible investors to register their intent to make international investments, and ultimately, to seek OPIC political risk insurance.

Dated: June 23, 2011.
Nichole Cadiente,
Administrative Counsel, Department of Legal Affairs.

[FR Doc. 2011-16166 Filed 6-28-11; 8:45 am]

BILLING CODE M